COMMISSION ON CIVIL RIGHTS

Agenda and Notice of Public Meetings of the West Virginia Advisory Committee

AGENCY: Commission on Civil Rights.

ACTION: Announcement of meeting.

SUMMARY: Notice is hereby given, pursuant to the provisions of the rules and regulations of the U.S. Commission on Civil Rights (Commission), and the Federal Advisory Committee Act (FACA), that meetings of the West Virginia Advisory Committee to the Commission will convene at 9:00 a.m. (EDT) on Tuesday, July 19, 2018 in Charleston, WV. The purpose of the briefings is to hear from government officials, advocates, and other stakeholders on the civil rights issues related to collateral consequences of felony convictions in West Virginia.

DATES: Thursday, July 19, 2018.

Time: 9:00 a.m. to 7:00 p.m.

ADDRESSES: Capitol Complex, 1900 Kanawha Blvd. East, Government Organization Committee Room, #215-East, Charleston, WV 25305.

FOR FURTHER INFORMATION CONTACT: Ivy Davis at idavis@usccr.gov or 202-376-7756.

SUPPLEMENTARY INFORMATION: If other persons who plan to attend the briefings require other accommodations, please contact Evelyn Bohor at ebohor@usccr.gov or 303-866-1040 at least ten (10) working days before the scheduled date of the briefings.

Time will be set aside at the end of meeting so that members of the public may address the Committee after the formal presentations have been completed. Persons interested in the issue are also invited to submit written comments; the comments must be received in the regional office by August 19, 2018. Written comments may be mailed to the U.S. Commission on Civil Rights, 1331 Pennsylvania Ave. NW, Suite 1150, Washington, DC 20425, faxed to (303) 866-1050, or emailed to Evelyn Bohor at ebohor@usccr.gov.

Records and documents discussed during the briefings will be available for public viewing as they become available at https://facadatabase.gov/committee/meetings.aspx?cid=281 and clicking on the “Meeting Details” and “Documents” links. Records generated from these briefings may also be made available by calling the designated federal officer. Persons interested in the work of this advisory committee are advised to go to the Commission's website, www.usccr.gov, or to contact the Commission at the above phone number, email or street address.

Tentative Agendas

Tuesday, July 29, 2018; 9 a.m.

I. Welcome and Introductions

II. Panel Testimony on collateral consequences of felony convictions

III. Open Session

IV. Adjournment

Dated: July 5, 2018.
David Mussatt,
Supervisory Chief, Regional Programs Unit.

[FR Doc. 2018-14791 Filed 7-10-18; 8:45 am]

BILLING CODE P